DEPARTMENT OF STATE

Bureau of Consular Affairs

22 CFR Parts 41 and 42

[Public Notice 3719]

Visas—Visa Classification Symbols: Corrections

AGENCY: Bureau of Consular Affairs, Department of State.

ACTION: Correcting amendments.

SUMMARY: The Department of State (the Department) is publishing this document to correct errors in two final rules published in the Federal Register. The final rules revised the “SK” immigrant category and added a new nonimmigrant “V” classification.

DATES: This rule takes effect on July 23, 2001.

FOR FURTHER INFORMATION CONTACT: Pam Chavez, Legislation and Regulations Division, Visa Office, (202) 663-1206.

SUPPLEMENTARY INFORMATION: On April 19, 2000, the Department amended section 42.11 of Part 22 of the Code of Federal Regulations by revising the “SK” immigrant category to include certain NATO employees, their spouses and unmarried children. [See 65 FR 20903.] These NATO aliens were added to the special immigrant category by section 421(a) of Public Law 105-277 and are properly classified as “SN” special immigrants. The Department added the new “SN” categories to the immigrant visa classification table in its rule published on June 18, 2001 [66 FR 32740], but failed to remove the NATO aliens from the SK category.

The Department's June 18, 2001 rule [66 FR 32740] also amended section 41.12 of Part 22 of the Code of Federal Regulations to add a new nonimmigrant “U” classification to implement section 107 of Pub. L. 106-386. The rule contained errors in the entries for the “U” visa classification symbols. The legal citations for these categories should have read 101(a)(15)(U)(i) for U1 and 101(a)(15)(U)(ii) for U2.

This rule corrects sections 41.12 and 42.11 to read as follows:

List of Subjects

22 CFR Part 41

Aliens, Nonimmigrants, Passports and visas.

22 CFR Part 42

Aliens, Immigration, Passports and visas.

Accordingly, 22 CFR part 41 is corrected by making the following correcting amendments:

PART 41—VISAS: DOCUMENTATION OF NONIMMIGRANTS UNDER THE IMMIGRATION AND NATIONALITY ACT, AS AMENDED

1. The authority citation for part 41 continues to read as follows:

Authority: 8 U.S.C. 1104; Pub. L. 105-277, 112 Stat. 2681 et seq.

2. In the table in § 41.12, correct the entries for U1 and U2 to read as follows:

§ 41.12 Classification symbols.

* * * * *

Nonimmigrants
Symbol and class | Section of law
* * * * * * *
U1 Victim of criminal activity | 101(a)(15)(U)(i)
U2 Spouse, child or parent of a U1 | 101(a)(15)(U)(ii)
* * * * * * *

PART 42—VISAS: DOCUMENTATION OF IMMIGRANTS UNDER THE IMMIGRATION AND NATIONALITY ACT, AS AMENDED

3. The authority citation for part 42 continues to read as follows:

Authority: 8 U.S.C. 1104.

4. In the table in § 42.11, correct the entries for SK1, SK2, SK3 and SK4 to read as follows:

§ 42.11 Classification symbols.

* * * * *

Immigrants
Symbol and class | Section of law
* * * * * * *
Employment 4th Preference (Certain Special Immigrants)
* * * * * * *
SK1 Certain Retired International Organization employees | 101a(27)(I)(iii)
SK2 Spouse of SK1 | 101(a)(27)(I)(iv)
SK3 Certain Unmarried Sons or Daughters of an International Organization employee | 101(a)(27)(I)(i)
SK4 Certain Spouses of a deceased International Organization employee | 101(a)(27)(I)(ii)
* * * * * * *

Dated: July 6, 2001.
Mary A. Ryan,
Assistant Secretary for Consular Affairs, Department of State.

[FR Doc. 01-18321 Filed 7-20-01; 8:45 am]

BILLING CODE 4710-06-P